DEPARTMENT OF ENERGY

Federal Energy Regulatory Commission

[Project No. 9974-055]

Rough & Ready Water Power Company, LLC; Notice of Application for Temporary Amendment of License and Soliciting Comments, Motions To Intervene, and Protests

April 13, 2005.

Take notice that the following application has been filed with the Commission and is available for public inspection.

a. Type of Application: Request to amend exemption to replace existing single powerhouse unit with two refurbished units that equal the capacity of the existing unit.

b. Project Number: P-9974-055.

c. Date Filed: March 22, 2005.

d. Applicant: Rough & Ready Water Power Company, LLC.

e. Name of Project: Upper Watertown Hydroelectric Project (FERC No. 9974).

f. Location: The project is located on the Rock River in the City of Watertown, Jefferson County, Wisconsin.

g. Filed Pursuant to: Federal Power Act, 16 U.S.C. 791(a) 825(r) and 799 and 801.

h. Applicant Contact: Mr. Thomas J. Reiss, Jr., P.O. Box 553, Watertown, WI 53094, Phone (920) 261-7975.

i. FERC Contact: Any questions on this notice should be addressed to Mr. Robert Fletcher at (202) 502-8901, or e-mail address: robert.fletcher@ferc.gov.

j. Deadline for filing comments and/or motions: May 16, 2005.

k. Description of Request: The exemptee is proposing that the existing single powerhouse unit be removed and replaced with two refurbished units. The current Flygt unit has a nameplate capacity of 265 kilowatts (kW), with a minimum hydraulic capacity of 90 cubic feet per second (cfs) and a maximum of 330 cfs. The new proposed units will be Leffel type B and Leffel type F. The Leffel type B will have a nameplate capacity of 80 kW, with a minimum hydraulic capacity of 35 cfs and a maximum of 100 cfs. The Leffel type F will have a nameplate capacity of 185 kW, with a minimum hydraulic capacity of 90 cfs and a maximum of 230 cfs. Combined, the two proposed units will have the same nameplate capacity (265 kW) and maximum hydraulic capacity (330 cfs) as the current unit. The exemptee states the proposed units will allow a greater operating range and will eliminate wide fluctuations in upstream water levels. The exemptee has consulted and received concurrence from the U.S. Fish and Wildlife Service and the Wisconsin Department of Natural Resources on the proposed change as indicated by letters dated March 11, 2005, and March 15, 2005, respectively.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers (p-9974-055). All documents (original and eight copies) should be filed with: Magalie R. Salas, Secretary, Federal Energy Regulatory Commission, 888 First Street, NE., Washington, DC 20426. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Linda Mitry,
Deputy Secretary.

[FR Doc. E5-1833 Filed 4-18-05; 8:45 am]

BILLING CODE 6717-01-P